DEPARTMENT OF TRANSPORTATION

Federal Aviation Administration

14 CFR Part 39

[Docket No. FAA-2014-0241; Directorate Identifier 2014-CE-008-AD; Amendment 39-17880; AD 2014-13-05]

RIN 2120-AA64

Airworthiness Directives; British Aerospace Regional Aircraft Airplanes

AGENCY: Federal Aviation Administration (FAA), Department of Transportation (DOT).

ACTION: Final rule.

SUMMARY: We are superseding Airworthiness Directive (AD) 2007-10-16 for all British Aerospace Regional Aircraft Jetstream Model 3201 airplanes. This AD results from mandatory continuing airworthiness information (MCAI) issued by an aviation authority of another country to identify and correct an unsafe condition on an aviation product. The MCAI describes the unsafe condition as the need to incorporate revisions to the Airworthiness Limitations section of the Instructions for Continued Airworthiness. We are issuing this AD to require actions to address the unsafe condition on these products.

DATES: This AD is effective August 5, 2014.

The Director of the Federal Register approved the incorporation by reference of a certain publication listed in the AD as of August 5, 2014.

ADDRESSES: You may examine the AD docket on the Internet at http://www.regulations.gov by searching for and locating Docket No. FAA-2014-0241; or in person at the Docket Management Facility, U.S. Department of Transportation, Docket Operations, M-30, West Building Ground Floor, Room W12-140, 1200 New Jersey Avenue SE., Washington, DC 20590.

For service information identified in this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may view this referenced service information at the FAA, Small Airplane Directorate, 901 Locust, Kansas City, Missouri 64106. For information on the availability of this material at the FAA, call (816) 329-4148.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION:

Discussion

We issued a notice of proposed rulemaking (NPRM) to amend 14 CFR part 39 to add an AD that would apply to all British Aerospace Regional Aircraft Jetstream Model 3201 airplanes. That NPRM was published in the Federal Register on April 14, 2014 (79 FR 20832), and proposed to supersede AD 2007-10-16, Amendment 39-15057 (72 FR 27953, May 18, 2007).

The NPRM proposed to correct an unsafe condition for the specified products and was based on mandatory continuing airworthiness information (MCAI) originated by an aviation authority of another country. The MCAI states:

The Jetstream Series 3200 Aircraft Maintenance Manual (AMM), includes Chapter 05-10-05 “Airworthiness Limitations, Description and Operation”. The maintenance tasks and limitations contained in this chapter have been identified as mandatory actions for continued airworthiness and EASA issued AD 2007-0074 to require operators to comply with those instructions.

Since that AD was issued, BAE Systems (Operations) Ltd amended Jetstream Series 3200 AMM Chapter 05-10-05 to introduce life limitations for the main landing gear radius rod mounting shaft assemblies and to incorporate wing structure inspections previously introduced through BAE Systems (Operations) Ltd Service Bulletin (SB) SB 51-JA020940. In addition, a new table was introduced to provide extended fatigue life limitations for structural items for aeroplanes entered into a life extension programme. Reference to BAE Systems (Operations) Ltd SB 32-JA981042 was updated from Revision 7 to Revision 8 to reflect increased life limits of the nose landing gear.

Failure to comply with the new and more restrictive instructions could result in an unsafe condition.

For the reasons described above, this EASA AD retains the requirements of EASA AD 2007-0074, which is superseded, and requires implementation of the maintenance requirements and/or airworthiness limitations as specified in Chapter 05-10-05 of the Jetstream Series 3200 AMM at Revision 29.

The MCAI can be found in the AD docket on the Internet at http://www.regulations.gov/#!documentDetail;D=FAA-2014-0241-0002.

Comments

We gave the public the opportunity to participate in developing this AD. We received no comments on the NPRM (79 FR 20832, April 14, 2014) or on the determination of the cost to the public.

Conclusion

We reviewed the relevant data and determined that air safety and the public interest require adopting the AD as proposed except for minor editorial changes. We have determined that these minor changes:

• Are consistent with the intent that was proposed in the NPRM (79 FR 20832, April 14, 2014) for correcting the unsafe condition; and

• Do not add any additional burden upon the public than was already proposed in the NPRM (79 FR 20832, April 14, 2014).

Costs of Compliance

We estimate that this AD will affect 14 products of U.S. registry. We also estimate that it will take about 1 work-hour per product to comply with the basic requirements of this AD of inserting the document into the Airworthiness Limitations section of the Instructions for Continued Airworthiness. The average labor rate is $85 per work-hour.

Based on these figures, we estimate the cost of this AD on U.S. operators to be $1,190, or $85 per product.

We have no way of determining the cost to replace the life limited parts and to do the applicable maintenance tasks on each airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0241; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15057 (72 FR 27953, May 18, 2007), and adding the following new AD:

2014-13-05 British Aerospace Regional Aircraft: Amendment 39-17880; Docket No. FAA-2014-0241; Directorate Identifier 2014-CE-008-AD.

(a) Effective Date

This airworthiness directive (AD) becomes effective August 5, 2014.

(b) Affected ADs

This AD supersedes AD 2007-10-16, Amendment 39-15057 (72 FR 27953, May 18, 2007).

(c) Applicability

This AD applies to British Aerospace Regional Aircraft Jetstream Model 3201 airplanes, all serial numbers, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as the need to incorporate revisions to the Airworthiness Limitations section of the Instructions for Continued Airworthiness (ICA). We are issuing this AD to enforce compliance with these requirements in order to maintain airworthiness.

(f) Actions and Compliance

Unless already done, do the actions in paragraphs (f)(1) and (f)(2) of this AD:

(1) As of August 5, 2014 (the effective date of this AD), replace each component before exceeding the applicable life limit and complete all applicable maintenance tasks within the thresholds and intervals as specified in Chapter 05-10-05, Airworthiness Limitations, of the British Aerospace Jetstream 3200 Series Aircraft Maintenance Manual, Revision, 29, dated December 15, 2012.

(2) You may comply with the requirements in paragraph (f)(1) of this AD by incorporating British Aerospace Jetstream 3200 Series Aircraft Maintenance Manual, Revision 29, Airworthiness Limitations, Chapter 05-10-05, dated December 15, 2012, into the Airworthiness Limitations section of your ICA and complying with that program.

(g) Other FAA AD Provisions

The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090; email: taylor.martin@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to European Aviation Safety Agency (EASA) AD No.: 2014-0044, dated February 24, 2014. You may examine the MCAI on the Internet at http://www.regulations.gov/#!documentDetail;D=FAA-2014-0241-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Chapter 05-10-05, Airworthiness Limitations, of the British Aerospace Jetstream 3200 Series Aircraft Maintenance Manual, Revision, 29, dated December 15, 2012.

(ii) Reserved.

(3) For British Aerospace Regional Aircraft service information identified in this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on June 20, 2014.
Earl Lawrence,
Manager, Small Airplane Directorate, Aircraft Certification Service.

[FR Doc. 2014-15136 Filed 6-30-14; 8:45 am]

BILLING CODE 4910-13-P